EXPORT-IMPORT BANK OF THE U.S.

[Public Notice 120]

Agency Information Collection Activities: Final Collection; Comment Request

AGENCY: Export-Import Bank of the U.S.

ACTION: Submission for OMB review and comments request.

Form Title: Report of Premiums Payable for Exporters Only, EIB 92-29.

SUMMARY: The Export-Import Bank of the United States (Ex-Im Bank), as a part of its continuing effort to reduce paperwork and respondent burden, invites the general public and other Federal Agencies to comment on the proposed information collection, as required by the Paperwork Reduction Act of 1995.

This form will be used by exporters to report and pay premiums on insured shipments to various foreign buyers. Our customers will be able to submit this form on paper or electronically.

DATES: Comments should be received on or before August 19, 2009 to be assured of consideration.

ADDRESSES: Direct all comments to Office of Management and Budget, Office of Information and Regulatory Affairs, 725 17th Street, NW., Washington, DC 20038, OMB Number 3048-0017.

SUPPLEMENTARY INFORMATION:

Titles and Form Number: EIB 92-29. Report of Premiums Payable for Exporters Only.

OMB Number: 3048-0017.

Type of Review: Regular.

Need and Use: The information requested enables the application to provide Ex-Im Bank with the information necessary to record customer utilization and manage proposed insurance liability related to risk premiums received.

Affected Public: This form affects entities involved in the export of U.S. goods and services.

Annual Number of Respondents: 1,850.

Estimated Time per Respondent: 30 minutes.

Government Annual Burden Hours: 11,100.

Frequency of Reporting or Use: Monthly.

Sharon A. Whitt,
Agency Clearance Officer.

[FR Doc. E9-17174 Filed 7-17-09; 8:45 am]

BILLING CODE 6690-01-P